DEPARTMENT OF ENERGY

Orders Granting Authority To Import and Export Natural Gas, To Import and Export Liquefied Natural Gas, and To Vacate Authorization During January 2016

| FE Docket Nos.
TOYOTA MOTOR ENGINEERING & MANUFACTURING NORTH AMERICA | 15-109-NG
SABINE PASS LIQUEFACTION, LLC | 15-171-LNG
APPLIED LNG TECHNOLOGIES, LLC | 16-05-NG
COAHUILA ENERGY | 15-189-NG
WHITE EAGLE TRADING, LLC | 16-04-NG
CANNAT ENERGY, INC. | 15-184-NG
BNP PARIBAS ENERGY CANADA CORP | 15-176-NG
FREEPORT LNG DEVELOPMENT, L.P | 16-02-LNG
BNP PARIBAS ENERGY TRADING GP | 15-177-NG
MERCURIA COMMODITIES CANADA CORPORATION | 15-162-NG

AGENCY: Office of Fossil Energy, Department of Energy.

ACTION: Notice of orders.

SUMMARY: The Office of Fossil Energy (FE) of the Department of Energy gives notice that during January 2016, it issued orders granting authority to import and export natural gas, to import and export liquefied natural gas (LNG), and to vacate authority. These orders are summarized in the attached appendix and may be found on the FE Web site at http://energy.gov/fe/listing-doefe-authorizationsorders-issued-2016. They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on February 10, 2016.
John A. Anderson,
Director, Office of Regulation and International Engagement, Office of Oil and Natural Gas.

APPENDIX

DOE/FE Orders Granting Import/Export Authorizations
3695-A | 01/19/16 | 15-109-NG | Toyota Motor Engineering & Manufacturing North America | Order vacating blanket authority to export natural gas to Mexico.
3767 | 01/13/16 | 15-171-LNG | Sabine Pass Liquefaction, LLC | Order granting blanket authority to export LNG by vessel from the Sabine Pass LNG Terminal located in Cameron Parish, Louisiana.
3771 | 01/19/16 | 16-05-NG | Applied LNG Technologies, LLC | Order granting blanket authority to export natural gas to Canada/Mexico.
3772 | 01/19/16 | 15-189-NG | Coahuila Energy | Order granting blanket authority to export natural gas to Mexico.
3773 | 01/19/16 | 16-04-NG | White Eagle Trading, LLC | Order granting blanket authority to export natural gas to Mexico.
3775 | 01/19/16 | 15-184-NG | Cannat Energy, Inc | Order granting blanket authority to import natural gas from Canada.
3776 | 01/19/16 | 15-176-NG | BNP Paribas Energy Canada Corp | Order granting blanket authority to import/export natural gas from/to Canada.
3777 | 01/19/16 | 16-02-LNG | Freeport LNG Development, L.P. | Order granting blanket authority to import LNG from various international sources by vessel.
3778 | 01/19/16 | 15-177-NG | BNP Paribas Energy Trading GP | Order granting blanket authority to import natural gas from Canada.
3779 | 01/28/16 | 15-162-LNG | Mercuria Commodities Canada Corporation | Order granting long-term authority to export natural gas to Canada.

[FR Doc. 2016-03373 Filed 2-17-16; 8:45 am]

BILLING CODE 6450-01-P